DEPARTMENT OF THE INTERIOR

National Park Service

[2253-665]

Notice of Inventory Completion: Denver Museum of Nature & Science, Denver, CO

AGENCY: National Park Service, Interior.

ACTION: Notice.

SUMMARY: The Denver Museum of Nature & Science has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Denver Museum of Nature & Science. Repatriation of the human remains and associated funerary objects to the Indian tribes stated below may occur if no additional claimants come forward.

DATES: Representatives of any Indian tribe that believes it has a cultural affiliation with the human remains and associated funerary objects should contact the Denver Museum of Nature & Science at the address below by May 21, 2012.

ADDRESSES: Chip Colwell-Chanthaphonh, Denver Museum of Nature & Science, 2001 Colorado Blvd., Denver, CO 80204, telephone (303) 370-6378.

SUPPLEMENTARY INFORMATION: Notice is here given in accordance with the Native American Graves Protection and Repatriation Act (NAGPRA), 25 U.S.C. 3003, of the completion of an inventory of human remains and associated funerary objects in the possession of the Denver Museum of Nature & Science, Denver, CO. The human remains and associated funerary objects were removed from Kern County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Denver Museum of Nature & Science professional staff in consultation with representatives of the Picayune Rancheria of Chukchansi Indians of California; Santa Rosa Indian Community of the Santa Rosa Rancheria, California; Table Mountain Rancheria of California; and Tule River Indian Tribe of the Tule River Reservation, California (hereafter referred to as “The Tribes”).

History and Description of the Remains

Sometime between 1928 and 1934, human remains representing, at minimum, four individuals were removed from burial contexts in the area of Buena Vista Lake, Kern County, CA. Mr. George E. Smith and/or Mrs. Ethel Smith may have collected the human remains and associated funerary objects in 1928, while digging and privately collecting in the Buena Vista Lake vicinity, or sometime between 1933 and 1934 while Mr. Smith was working on an archeological excavation with Dr. W. D. Strong of the Smithsonian Institution at Buena Vista Lake. In 1951, Mary W. A. Crane and Francis V. Crane purchased the human remains and associated funerary objects from Mr. Smith's small museum in California. In 1983, the Cranes donated the human remains to the Denver Museum of Nature & Science (then called the Denver Museum of Natural History) and the museum accessioned them into the collection that same year. Two individuals are represented by cranial fragments (AC.2155). One individual is represented by two fragments of a thoracic vertebra, bonded together with an obsidian point between them (AC.2156). One individual is represented by two worn adult molars (AC.2183A) and is associated with a shell necklace (AC.2183B). No known individuals were identified. The two associated funerary objects are a projectile point and a shell necklace.

Museum records originally documented these four individuals as “California Indians.” In 1994, the museum incorrectly affiliated the remains with the Yurok Tribe, though paperwork suggests they might have also been affiliated with the Mi'Wuk or Yokut. In 2003, the museum determined that the remains were “culturally unidentifiable.” On February 25, 2008, the museum published a Notice of Inventory Completion (73 FR 10054-10055) affiliating other human remains and associated funerary objects from the Smiths' Buena Vista excavations with The Tribes. In 2011, new research and consultation on the remains determined that these human remains also came from the Smiths' collection efforts at Buena Vista Lake.

Based on provenience, museum records, research and consultation with tribal representatives, the human remains and associated funerary objects are determined to be Native American. The Buena Vista Lake vicinity and the Native American town of Tulamniu are in the territory occupied during the early historic period by the Southern Valley Yokuts, now known as the Tule River Indian Tribe of the Tule River Reservation, California. During consultation, representatives of the Tule River Indian Tribe of the Tule River Reservation, California, confirmed the historic presence of their ancestors in the Buena Vista Lake area and claimed a relationship of shared group identity with the human remains. Additionally, in consultations, and with support of anthropological evidence, tribal representatives emphasized that the Buena Vista Lake vicinity relates to the Yokut people, the ancestors of The Tribes. These tribes confirmed the historic presence of their ancestors in the Buena Vista Lake area and asserted a relationship of shared group identity with the human remains.

Determinations Made by the Denver Museum of Nature & Science

Officials of the Denver Museum of Nature & Science have determined that:

• Pursuant to 25 U.S.C. 3001(9), the human remains described above represent the physical remains of four individuals of Native American ancestry.

• Pursuant to 25 U.S.C. 3001(3)(A), the two objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Representatives of any other Indian tribe that believes itself to be culturally affiliated with the human remains and associated funerary objects should contact Chip Colwell-Chanthaphonh, Denver Museum of Nature & Science, 2001 Colorado Blvd., Denver, CO 80204, telephone (303) 370-6378, before May 21, 2012. Repatriation of the human remains and associated funerary objects to The Tribes may proceed after that date if no additional claimants come forward.

The Denver Museum of Nature & Science is responsible for notifying The Tribes that this notice has been published.

Dated: April 12, 2012.
David Tarler,
Acting Manager, National NAGPRA Program.

[FR Doc. 2012-9471 Filed 4-18-12; 8:45 am]

BILLING CODE 4310-50-P